SECURITIES AND EXCHANGE COMMISSION

Submission for OMB Review; Comment Request

Upon Written Request; Copies Available From: Securities and Exchange Commission, Office of Filings and Information Services, Washington, DC 20549.

Extension:

Form SE, OMB Control No. 3235-0327, SEC File No.270-289

Form ID, OMB Control No. 3235-0328, SEC File No.270-291

Form ET, OMB Control No. 3235-0329, SEC File No.270-290

Form TH, OMB Control No. 3235-0425, SEC File No.270-377

Notice is hereby given that pursuant to the Paperwork Reduction Act of 1995 (44 U.S.C. 3501 et seq.) the Securities and Exchange Commission (“Commission”) has submitted to the Office of Management and Budget requests for extension of the previously approved collections of information discussed below.

Form SE is used by registrants to file paper copies of exhibits that would be difficult or impossible to submit electronically. The information contained in Form SE is used by the Commission to identify paper copies of exhibits. Form SE is a public document and is filed on occasion. Form SE is filed by individuals, companies or other for-profit organizations that are required to file electronically. It is estimated that 110 registrants file Form SE at an estimated .10 hours per response for a total annual burden of 11 hours.

Form ID is used by companies to apply for identification numbers and passwords used in conjunction with the EDGAR electronic filing system. The information provided on Form ID is essential to the security of the EDGAR system. Form ID is not a public document because it is used solely for the purpose of registering filers on the EDGAR system. Form ID must be file every time a registrant or other person obtains or changes an identification number. The form is filed by individuals, companies or other for-profit organizations that are required to filed electronically. It is estimated that 7,000 registrants file Form ID at an estimated .15 hours per response for a total annual burden of 1,050 hours.

Form ET is used by companies to facilitate the transfer of information submitted to the Commission on magnetic tapes to the EDGAR system. Form ET provides technical information about the magnetic tape cartridge contents and identifies a contract person who can answer any questions about the tape cartridge. Form ET is a public document and is filed on occasion. It is filed by individuals, companies or other for-profit organization that are required to file electronically. It must be filed every time a filing is submitted to the Commission on magnetic tape to identify such filings. It is estimated that 120 registrants file Form ET at an estimated .25 hours per response for a total annual burden of 30 hours.

Form TH is used by registrants to notify the Commission that an electronic filer is relying on the temporary hardship exemption for the filing of a document in paper format that would otherwise be required to file electronically as prescribed by Rule 201(a) of Regulations S-T. Form TH is a public document and is filed on occasion. Form TH must be filed every time an electronic filer experiences unanticipated technical difficulties preventing the timely preparation and submission of a required filing. It is estimated that Form TH is filed by 15 registrants at an estimated .33 hours per response for a total annual burden of 5 hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: April 19, 2001.
Margaret H. McFarland,
Deputy Secretary.

[FR Doc. 01-10389 Filed 4-25-01; 8:45 am]

BILLING CODE 8010-01-M